POSTAL SERVICE BOARD OF GOVERNORS

Sunshine Act Meeting; Board Votes To Close May 15, 2001, Meeting

At its meeting on May 7, 2001, the Board of Governors of the United States Postal Service voted unanimously to close to public observation its meeting scheduled for May 15, 2001, in Washington, DC, in person and via teleconference.

MATTERS TO BE CONSIDERED: 1. Legal Update.

2. Strategic Planning.

3. Personnel Matters.

4. Compensation issues.

PERSONS EXPECTED TO ATTEND: Governors Ballard, Daniels, del Junco, Dyhrkopp, Fineman, Kessler, McWherter, Rider and Walsh; Postmaster General Henderson, Deputy Postmaster General Nolan, Secretary to the Board Hunter, and General Counsel Gibbons.

GENERAL COUNSEL CERTIFICATION: The General Counsel of the United States Postal Service has certified that the meeting was properly closed under the Government in the Sunshine Act.

CONTACT PERSON FOR MORE INFORMATION: Requests for information about the meeting should be addressed to the Secretary of the Board, David G. Hunter, at (202) 268-4800.

David G. Hunter,
Secretary.

[FR Doc. 01-12477 Filed 5-14-01; 2:06 pm]

BILLING CODE 7710-12-M